DEPARTMENT OF HOMELAND SECURITY

Coast Guard

33 CFR Part 165

[CGD09-06-046]

Safety Zone: Captain of the Port Buffalo Zone

AGENCY: Coast Guard, DHS.

ACTION: Notice of enforcement of regulation.

SUMMARY: The Coast Guard will enforce safety zones for annual fireworks displays in the Captain of the Port Buffalo Zone during July 2006. This action is necessary to provide for the safety of life and property on navigable waters during these events. These safety zones will restrict vessel traffic from a portion of the Captain of the Port Buffalo Zone.

DATES: Enforcement Dates: 33 CFR 165.914 will be enforced from 9:30 p.m. (local) on July 2, 2006 to 10:30 p.m. (local) on July 3, 2006.

FOR FURTHER INFORMATION CONTACT: LT Tracy Wirth, Waterways Management Division Chief, Sector Buffalo, 1 Fuhrmann Blvd. Buffalo, NY at (716) 843-9573.

SUPPLEMENTARY INFORMATION: The Coast Guard will enforce the permanent safety zones in 33 CFR 165.914 (published January 21, 2005, in the Federal Register, 70 FR 3147), for fireworks displays in the Captain of the Port Buffalo Zone during July 2006. The following safety zones are in effect for fireworks displays occurring in the month of July 2006:

(1) Oswego Independence Day Fireworks, Oswego NY. Location: All waters of Oswego Harbor, in Lake Ontario, within a 1,000-foot radius of the fireworks barge moored or anchored in approximate position 43°28′05″ N, 076°31′01″ W (NAD 1983).

(2) Olcott Fireworks, Olcott, NY. Location: All waters of Lake Ontario within a 300-yard radius of the fireworks display on the west break wall of the Olcott Harbor entrance located in position 43°20′25″ N, 078°43′09″ W (NAD 1983).

The Oswego Independence Day fireworks safety zone will be enforced on July 2, 2006, from 9:30 p.m. (local) until 10 p.m. (local.) The Olcott Fireworks safety zone will be enforced on July 3, 2006, from 10 p.m. (local) until 10:30 p.m. (local).

In order to ensure the safety of spectators and transiting vessels, these safety zones will be enforced for the duration of the events. In the event that these safety zones affect shipping, commercial vessels may request permission from the Captain of the Port Buffalo to transit through the safety zone.

Requests must be made in advance and approved by the Captain of Port before transits will be authorized. The Captain of the Port may be contacted via U.S. Coast Guard Sector Buffalo on channel 16, VHF-FM. The Coast Guard will give notice to the public via a Broadcast to Mariners that the regulation is in effect.

Dated: June 13, 2006.
S. J. Ferguson,
Captain, U.S. Coast Guard, Captain of the Port Buffalo.

[FR Doc. E6-10280 Filed 6-29-06; 8:45 am]

BILLING CODE 4910-15-P